DEPARTMENT OF THE TREASURY

Office of Thrift Supervision

BankUnited, FSB Coral Gables, FL; Notice of Appointment of Receiver

Notice is hereby given that, pursuant to the authority contained in section 5(d)(2) of the Home Owners' Loan Act, the Office of Thrift Supervision has duly appointed the Federal Deposit Insurance Corporation as sole Receiver for BankUnited, FSB, Coral Gables, Florida (OTS No. 8045), on May 21, 2009.

Dated: May 29, 2009.
By the Office of Thrift Supervision.
Sandra E. Evans,
Federal Register Liaison.

[FR Doc. E9-13045 Filed 6-4-09; 8:45 am]

BILLING CODE 6720-01-M